NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: February 20, 2003, 8:30 a.m.-5 p.m. and February 21, 2003, 8:30 a.m.-1:30 p.m.

Place: National Science Foundation, 4201 Wilson Blvd., Arlington, VA, Room 1235S.

Type of Meeting: Open.

Contact Person: Dr. Margaret Tolbert, Executive Liaison, CEOSE, Office of Integrative Activities, 4201 Wilson Blvd., Arlington, VA 22230, Telephone: (703) 292-8040.

Minutes: May be obtained from the Executive Liaison at the above address.

Purpose of Meeting: To provide advice and recommendations concerning broadening participation in science and engineering.

Agenda:

Thursday, February 20, 2003

8:30 a.m.

Welcome and approval of the June 2002 Minutes

Statement of Executive Liaison

Action on New Committee Members

Discussion of Committee Agenda and Future Meeting Dates

Presentation and Discussion of the Math Science Partnerships Program

Discussion of Increasing the Number of Doctoral Degrees in STEM Awarded to Persons from Underrepresented Groups

10:30 a.m.

Congressional Discussion

12 Noon

CEOSE Report for 2004

2:45 p.m.

Report on Mentoring Conference

Report on BEST in Relationship to NSF

Sampling Designs for the 2003 Surveys of Scientists and Engineers

Plans for the 2004 Report on Women, Minorities, and Persons with Disabilities in Science and Engineering

5 p.m.

Adjourn

Friday, February 21, 2003

8:30 a.m.

Unfinished Business

9 a.m.

Meeting with Dr. Rita Colwell, Director of NSF

10 a.m.

Continuation of Unfinished Business

1:30 p.m.

Adjourn

Dated: January 29, 2003.
Susanne Bolton,
Committee Management Officer.

[FR Doc. 03-2465 Filed 2-3-03; 8:45 am]

BILLING CODE 7555-01-M